DEPARTMENT OF AGRICULTURE

Forest Service

Siskiyou Resource Advisory Committee; Meeting

AGENCY: Forest Service, USDA.

ACTION: Notice of meeting.

SUMMARY: The Siskiyou Resource Advisory Committee (RAC) will meet on Thursday, November 7, 2002. The meeting will begin at 9 a.m. and conclude at approximately 4:30 p.m. This meeting will be held at the Harbor Sanitary Building, at 16408 Lower Harbor Road, in Harbor, Oregon. The tentative agenda includes: (1) The proposed FY 03 RAC administrative budget, (2) FY 02 projects update, (3) review and recommendation of FY 03 projects, and (4) Public Forum. The public forum is scheduled to begin at 11:30 a.m. Time allotted for individual presentations will be limited to 3-4 minutes. Written comments are encouraged, particularly if the material cannot be presented within the time limits for the public forum. The written comments may be submitted prior to the November 7 meeting by sending them to the Designated Federal Official Scott D. Conroy at the address given below.

FOR FURTHER INFORMATION CONTACT: Designated Federal Official Scott D. Conroy; Rogue & Siskiyou national forests; P.O. Box 520, Medford, Oregon 97501; (541) 858-2200.

Dated: October 10, 2002.
Scott D. Conroy,
Forest Supervisor, Rogue River and Siskiyou National Forests.

[FR Doc. 02-26375 Filed 10-16-02; 8:45 am]

BILLING CODE 3410-11-M